DEPARTMENT OF COMMERCE

National Oceanic and Atmospheric Administration

[I.D. 122602C]

Proposed Information Collection; Comment Request; Alaska Region Permit Family of Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506 (c)(2)(A)).

DATES: Written comments must be submitted on or before March 3, 2003.

ADDRESSES: Direct all written comments to Diana Hynek, Departmental Paperwork Clearance Officer, Department of Commerce, Room 6625, 14th and Constitution Avenue NW, Washington DC 20230 (or via Internet at dHynek@doc.gov).

FOR FURTHER INFORMATION CONTACT: Requests for additional information or copies of the information collection instrument and instructions should be directed to Patsy A. Bearden, NMFS Alaska Region, 907-586-7228 or e-mail at patsy.bearden@noaa.gov.

SUPPLEMENTARY INFORMATION:

I. Abstract

Fishermen and processors wishing to participate in regulated fisheries in the Exclusive Economic Zone off Alaska must obtain either a Federal Fisheries Permit, a Federal Processor Permit, a High-Seas Power Troller Permit, or an Experimental Fishing Permit. A holder of an Experimental Fishing Permit must file a progress and final report. The application and report information is used to identify participants in the fishery, aid enforcement of fishery regulations, and analyze activity within the fisheries.

II. Method of Collection

Paper forms are used.

III. Data

OMB Number: 0648-0206.

Form Number: None.

Type of Review: Regular submission.

Affected Public: Business or other for-profit organizations, individuals or households, and not-for-profit institutions.

Estimated Number of Respondents: 931.

Estimated Time Per Response: 21 minutes for Federal Fisheries Permit application; 21 minutes for Federal Processor Permit application; 20 minutes for a High-Seas Power Troller Permit application; 20 hours for Exempted Fisheries Permit application; 5 hours for an Exempted Fisheries Permit progress report; and 10 hours for an Exempted Fisheries Permit final report.

Estimated Total Annual Burden Hours: 483.

Estimated Total Annual Cost to Public: $1,329.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 20, 2002.
Gwellnar Banks,
Management Analyst, Office of the Chief Information Officer.

[FR Doc. 02-33036 Filed 12-30-02; 8:45 am]

BILLING CODE 3510-22-S